DEPARTMENT OF COMMERCE

National Oceanic and Atmospheric Administration

[RIN 0648-XD010]

Pacific Fishery Management Council; Public Meeting

AGENCY: National Marine Fisheries Service (NMFS), National Oceanic and Atmospheric Administration (NOAA), Commerce.

ACTION: Notice; public meetings (conference calls).

SUMMARY: The Pacific Fishery Management Council (Pacific Council) will convene two conference calls of its Groundfish Essential Fish Habitat Review Committee (EFHRC).

DATES: The first conference call will be held Tuesday, January 21, 2014, from 1 p.m.-3 p.m. The second conference call will be held Tuesday, February 4, 2014, from 9 a.m.-11 a.m.

ADDRESSES: For those members of the public who wish to attend the conference call, a public listening station will be available at the Pacific Council offices: 7700 NE Ambassador Place, Suite 101, Portland, OR 97220. Please contact the Pacific Council ahead of time if you wish to attend the public listening station.

FOR FURTHER INFORMATION CONTACT: Kerry Griffin, Staff Officer; telephone: (503) 820-2280.

SUPPLEMENTARY INFORMATION: The primary purpose of the conference calls is to discuss and finalize the Phase 2 Report, which summarizes the status of the essential fish habitat periodic review, describes the proposals that were received, and makes recommendations to the Pacific Council for further action. The Phase 2 Report is scheduled to be considered by the Pacific Council at its March, 2014 meeting.

Action will be restricted to those issues specifically listed in this notice and any issues arising after publication of this notice that require emergency action under Section 305(c) of the Magnuson-Stevens Fishery Conservation and Management Act, provided the public has been notified of the EFHRC's intent to take final action to address the emergency.

Special Accommodations

This listening station is physically accessible to people with disabilities. Requests for sign language interpretation or other auxiliary aids should be directed to Mr. Kris Kleinschmidt, at (503) 820-2280, at least 5 days prior to the meeting date.

Dated: November 27, 2013.
Tracey L. Thompson,
Acting Deputy Director, Office of Sustainable Fisheries, National Marine Fisheries Service.

[FR Doc. 2013-28864 Filed 12-2-13; 8:45 am]

BILLING CODE 3510-22-P